DEFENSE NUCLEAR FACILITIES SAFETY BOARD

Sunshine Act Meetings

TIME AND DATE: 1:00 p.m., August 26, 2020.

PLACE: This meeting was held via teleconference.

STATUS: Closed. The Board invoked the exemption described in 5 U.S.C. 552b(c)(6) and 10 CFR 1704.4(f). The Board has determined that it was necessary to close this meeting to the public since an open meeting would have likely disclosed information of a personal nature where disclosure would constitute a clearly unwarranted invasion of personal privacy.

MATTERS TO BE CONSIDERED: At this meeting, members of the Board evaluated applicants for the position of Executive Director of Operations.

CONTACT PERSON FOR MORE INFORMATION: Tara Tadlock, Director of Board Operations, Defense Nuclear Facilities Safety Board, 625 Indiana Avenue NW, Suite 700, Washington, DC 20004-2901, (800) 788-4016. This is a toll-free number.

Dated: August 26, 2020.
Bruce Hamilton,
Chairman.

[FR Doc. 2020-19119 Filed 8-26-20; 4:15 pm]

BILLING CODE 3670-01-P